FEDERAL RESERVE SYSTEM

Notice of Proposals to Engage in Permissible Nonbanking Activities or to Acquire Companies that are Engaged in Permissible Nonbanking Activities; Correction

This notice corrects a notice (FR Doc. 05-18695) published on page 55131 of the issue for Tuesday, September 20, 2005.

Under the Federal Reserve Bank of Cleveland heading, the entry below for PNC Financial Services Group, Inc., Pittsburgh, Pennsylvania, has been withdrawn.

A. Federal Reserve Bank of Cleveland (Cindy West, Manager) 1455 East Sixth Street, Cleveland, Ohio 44101-2566:

1. The PNC Financial Services Group, Inc., Pittsburgh, Pennsylvania; to acquire HW Holdings, Richmond, Virginia, and thereby indirectly acquire Harris Williams & Co., and Harris Williams Advisors, Inc., and engage in broker dealer activities and advising clients on merger and acquisition matters, pursuant to sections 225.28(b)(6)(iii) and (b)(7)(i) of Regulation Y.

Board of Governors of the Federal Reserve System, September 22, 2005.
Robert deV. Frierson,
Deputy Secretary of the Board.

[FR Doc. 05-19286 Filed 9-26-05; 8:45 am]

BILLING CODE 6210-01-S